DEPARTMENT OF HEALTH AND HUMAN SERVICES

Centers for Disease Control and Prevention

Injury Research Grant Review Committee: Meeting

In accordance with section 10(a)(2) of the Federal Advisory Committee Act (Pub. L. 92-463), the Centers for Disease Control and Prevention (CDC) announces the following committee meeting:

Name: Injury Research Grant Review Committee (IRGRC).

Times and Dates: 6:30 p.m.-9:30 p.m., May 18, 2003; 8 a.m.-4:30 p.m., May 19, 2003.

Place: The Westin Atlanta Airport, 4736 Best Road, College

Park, Georgia 30337.

Status: Open: 6:30 p.m.-7 p.m., May 18, 2003.

Closed: 7 p.m.-9:30 p.m., May 18, 2003; 8 a.m.-4:30 p.m., May 19, 2003.

Purpose: This committee is charged with providing advice and guidance to the Secretary of Health and Human Services and the Director, CDC, regarding the scientific and technical merit of grant and cooperative agreement applications received from academic institutions and other public and private profit and nonprofit organizations, including State and local government agencies, to conduct specific injury research that focuses on prevention and control and supports injury control research centers.

Matters to be Discussed: Agenda items include a budget update, recent awards, discussion of the review process and panelists' responsibilities, and review of grant applications. Beginning at 7 p.m., May 18, through 4:30 p.m., May 19, the Committee will review individual research grant applications submitted in response to Program Announcements #03023, Acute Care, Rehabilitation and Disability Prevention Research; #03024, Violence-Related Injury Prevention Research (Intimate Partner Violence and Sexual Violence); #03027, New Investigator Training Awards for Unintentional Injury, Violence Related Injury, Biomechanics, Acute Care, Disability, and Rehabilitation-Related Research; #03028, Traumatic Injury Biomechanics Prevention Research; #03033, Dissemination Research of Effective Interventions; #03036, Dissertation Awards for Doctoral Candidates for Violence-Related Injury Prevention Research in Minority Communities; and #03035, National Academic Centers of Excellence on Youth Violence Prevention.

This portion of the meeting will be closed to the public in accordance with provisions set forth in section 552b(c)(4) and (6), Title 5, U.S.C., and the Determination of the Director, Management Analysis and Services Office, CDC, pursuant to Pub. L. 92-463.

Agenda items are subject to change as priorities dictate.

For Further Information Contact: Lynda S. Doll, PhD, Acting Executive Secretary, IRGRC, National Center for Injury Prevention and Control, CDC, 4770 Buford Highway, NE., M/S K58, Atlanta, Georgia 30341-3724, telephone (770) 488-4696.

The Director, Management Analysis and Services office, has been delegated the authority to sign Federal Register notices pertaining to announcements of meetings and other committee management activities for both CDC and the Agency for Toxic Substances and Disease Registry.

Dated: April 28, 2003.
Alvin Hall,
Director, Management Analysis and Services Office, Centers for Disease Control and Prevention.

[FR Doc. 03-10974 Filed 5-2-03; 8:45 am]

BILLING CODE 4163-18-P